DEPARTMENT OF THE TREASURY

Alcohol and Tobacco Tax and Trade Bureau

27 CFR Parts 40, 41, 44, 45, 46, 70, and 275

[T.D. TTB-16]

RIN 1513-AA20

Importation of Tobacco Products and Cigarette Papers and Tubes; Recodification of Regulations; Administrative Changes Due to the Homeland Security Act of 2002 (2000R-546P)

AGENCY: Alcohol and Tobacco Tax and Trade Bureau (TTB), Treasury.

ACTION: Final rule; Treasury decision.

SUMMARY: The Alcohol and Tobacco Tax and Trade Bureau (TTB) is recodifying its regulations pertaining to the importation of tobacco products and cigarette papers and tubes. We are also making administrative changes to these regulations to reflect TTB's new name and organizational structure resulting from changes made by the Homeland Security Act of 2002. This document does not include any substantive regulatory changes.

DATES: This rule is effective on August 26, 2004.

FOR FURTHER INFORMATION CONTACT: N. A. Sutton, Regulations and Procedures Division, Alcohol and Tobacco Tax and Trade Bureau, telephone 415-271-1254 or e-mail: nancy.sutton@ttb.gov.

SUPPLEMENTARY INFORMATION:

Background

As a part of its continuing efforts to reorganize chapter I of title 27 of the Code of Federal Regulations (27 CFR chapter I), the Alcohol and Tobacco Tax and Trade Bureau (TTB) is removing all of part 275, Importation of Tobacco Products and Cigarette Papers and Tubes, from subchapter M, Alcohol, Tobacco and Other Excise Taxes, and recodifying it as part 41 in subchapter B, Tobacco. This change merely improves the organization of chapter I of title 27. The table below shows from which section of part 275 the requirements of part 41 are derived.

In addition, section 1111 of the Homeland Security Act of 2002 (Public Law 107-296, 116 Stat. 2135) divided the Bureau of Alcohol, Tobacco and Firearms, Department of the Treasury, into two separate agencies, the Bureau of Alcohol, Tobacco, Firearms and Explosives in the Department of Justice, and TTB which remains in the Department of the Treasury. This reorganization requires us to amend each of the CFR parts under our jurisdiction to reflect our Bureau's new name and organizational structure. This document makes the appropriate administrative, nonsubstantive changes to the newly redesignated part 41.

Derivation Table for Part 41
The requirements of section | Are derived from section
Subpart A
41.1 | 275.1
Subpart B
41.11 | 275.11
Subpart C
41.21 | 275.21
41.22 | 275.22
41.23 | 275.23
41.24 | 275.24
41.25 | 275.25
41.26 | 275.26
41.27 | 275.27
41.28 | 275.28
41.29 | 275.29
Subpart D
41.30 | 275.30
41.31 | 275.31
41.32 | 275.32
41.33 | 275.33
41.34 | 275.34
41.35 | 275.35
41.37 | 275.37
41.38 | 275.38
41.39 | 275.39
41.40 | 275.40
41.41 | 275.41
41.50 | 275.50
41.60 | 275.60
41.62 | 275.62
41.63 | 275.63
Subpart E
41.71 | 275.71
41.72 | 275.72
41.72a | 275.72a
41.72b | 275.72b
41.72c | 275.72c
41.73 | 275.73
41.74 | 275.74
41.75 | 275.75
Subpart F
41.81 | 275.81
41.82 | 275.82
41.83 | 275.83
41.85 | 275.85
41.85a | 275.85a
41.86 | 275.86
Subpart G
41.101 | 275.101
41.105 | 275.105
41.106 | 275.106
41.107 | 275.107
41.108 | 275.108
41.109 | 275.109
41.110 | 275.110
41.111 | 275.111
41.112 | 275.112
41.113 | 275.113
41.114 | 275.114
41.114a | 275.114a
41.115 | 275.115
41.115a | 275.115a
41.116 | 275.116
41.117 | 275.117
41.118 | 275.118
41.119 | 275.119
41.120 | 275.120
41.121 | 275.121
41.122 | 275.122
41.123 | 275.123
41.124 | 275.124
41.125 | 275.125
41.126 | 275.126
41.127 | 275.127
41.128 | 275.128
41.129 | 275.129
41.135 | 275.135
41.136 | 275.136
41.137 | 275.137
41.138 | 275.138
41.139 | 275.139
41.140 | 275.140
41.141 | 275.141
Subpart H
41.151-41.153 | 275.151-275.153
Subpart I
41.161 | 275.161
41.162 | 275.162
41.163 | 275.163
41.165 | 275.165
41.170 | 275.170
41.171 | 275.171
41.172 | 275.172
41.173 | 275.173
41.174 | 275.174
Subpart J
41.181 | 275.181
41.182 | 275.182
41.183 | 275.183
Subpart K
41.190 | 275.190
41.191 | 275.191
41.192 | 275.192
41.193 | 275.193
41.194 | 275.194
41.195 | 275.195
41.196 | 275.196
41.197 | 275.197
41.198 | 275.198
41.199 | 275.199
41.200 | 275.200
41.201 | 275.201
41.202 | 275.202
41.203 | 275.203
41.204 | 275.204
41.205 | 275.205
41.206 | 275.206
41.207 | 275.207
41.208 | 275.208
Subpart L
41.220 | 275.220
41.221 | 275.221
41.222 | 275.222
41.223 | 275.223
41.224 | 275.224
41.225 | 275.225
41.226 | 275.226
41.227 | 275.227
41.228 | 275.228

Regulatory Flexibility Act

Because no notice of proposed rulemaking is required for this final rule under 5 U.S.C. 553, the provisions of the Regulatory Flexibility Act (5 U.S.C. 601 et seq.) do not apply.

Executive Order 12866

This final rule is not a significant regulatory action as defined in Executive Order 12866. Accordingly, this final rule is not subject to the analysis requirement of this Executive Order.

Inapplicability of Prior Notice and Comment and Delayed Effective Date Requirements

Because this final rule merely makes organizational and technical or conforming nonsubstantive amendments to improve the layout of the regulations and to reflect the new name and organizational structure of TTB, no notice of proposed rulemaking and public comment period are required under 5 U.S.C. 553(b)(B). For the same reasons, this final rule is not subject to the delayed effective date requirement of 5 U.S.C. 553(d).

Drafting Information

The principal author of this document is N. A. Sutton, Regulations and Procedures Division, Alcohol and Tobacco Tax and Trade Bureau.

List of Subjects

27 CFR Part 40

Cigars and cigarettes, Claims, Electronic funds transfers, Excise taxes, Imports, Labeling, Packaging and containers, Reporting and recordkeeping requirements, Surety bonds, Tobacco.

27 CFR Part 41

Cigars and cigarettes, Claims, Customs duties and inspection, Electronic funds transfers, Excise taxes, Imports, Labeling, Packaging and containers, Puerto Rico, Reporting and recordkeeping requirements, Surety bonds, Tobacco, Virgin Islands, Warehouses.

27 CFR Part 44

Aircraft, Armed forces, Cigars and cigarettes, Claims, Customs duties and inspection, Excise taxes, Exports, Foreign trade zones, Labeling, Packaging and containers, Reporting and recordkeeping requirements, Surety bonds, Tobacco, Vessels, Warehouses.

27 CFR Part 45

Cigars and cigarettes, Excise taxes, Labeling, Packaging and containers, Reporting and recordkeeping requirements, Tobacco.

27 CFR Part 46

Cigars and cigarettes, Claims, Excise taxes, Penalties, Reporting and recordkeeping requirements, Seizures and forfeitures, Surety bonds, Tobacco.

27 CFR Part 70

Administrative practice and procedure, Claims, Excise taxes, Freedom of information, Law enforcement, Penalties, Reporting and recordkeeping requirements, Surety bonds.

27 CFR Part 275

Cigars and cigarettes, Claims, Customs duties and inspection, Electronic funds transfers, Excise taxes, Imports, Labeling, Packaging and containers, Puerto Rico, Reporting and recordkeeping requirements, Surety bonds, Tobacco, Virgin Islands, Warehouses.

Amendments to the Regulations

For the reasons stated in the preamble, TTB amends chapter 1 of title 27 of the Code of Federal Regulations as follows:

PART 40—MANUFACTURE OF TOBACCO PRODUCTS AND CIGARETTE PAPERS AND TUBES

1. The authority citation for 27 CFR part 40 continues to read as follows:

Authority: 26 U.S.C. 5142, 5143, 5146, 5701, 5703-5705, 5711-5713, 5721-5723, 5731, 5741, 5751, 5753, 5761-5763, 6061, 6065, 6109, 6151, 6301, 6302, 6311, 6313, 6402, 6404, 6423, 6676, 6806, 7011, 7212, 7325, 7342, 7502, 7503, 7606, 7805; 31 U.S.C. 9301, 9303, 9304, 9306.

§ 40.165a [Amended]

2. Amend the first sentence of paragraphs (a)(1), (b)(1) and (b)(3) of § 40.165a by removing the reference to “parts 275 and 285” and adding, in its place, a reference to “part 41”.

§§ 40.236, 40.357 and 40.452 [Amended]

3. Remove the reference to “part 275” and add, in its place, a reference to “part 41” in the following places:

a. Section 40.236;

b. Section 40.357 (a)(1), (b)(1), and (b)(3); and

c. Section 40.452.

PART 44—EXPORTATION OF TOBACCO PRODUCTS AND CIGARETTE PAPERS AND TUBES, WITHOUT PAYMENT OF TAX, OR WITH DRAWBACK OF TAX

4. The authority citation for 27 CFR part 44 continues to read as follows:

Authority: 26 U.S.C. 5142, 5143, 5146, 5701, 5703-5705, 5711-5713, 5721-5723, 5731, 5741, 5751, 5754, 6061, 6065, 6151, 6402, 6404, 6806, 7011, 7212, 7342, 7606, 7805; 31 U.S.C. 9301, 9303, 9304, 9306.

§ 44.11 [Amended]

5. Amend the definition of “Sale price” in § 44.11 by removing the reference to “275.39” and adding, in its place, a reference to “41.39”.

PART 45—REMOVAL OF TOBACCO PRODUCTS AND CIGARETTE PAPERS AND TUBES, WITHOUT PAYMENT OF TAX, FOR USE OF THE UNITED STATES

6. The authority citation for 27 CFR part 45 continues to read as follows:

Authority: 26 U.S.C. 5703, 5704, 5705, 5723, 5741, 5751, 5762, 5763, 6313, 7212, 7342, 7606, 7805, 44 U.S.C. 3504(h).

§ 45.11 [Amended]

7. Amend the definition of “Sale price” in § 45.11 by removing the reference to “275.39” and adding, in its place, a reference to “41.39”.

PART 46—MISCELLANEOUS REGULATIONS RELATING TO TOBACCO PRODUCTS AND CIGARETTE PAPERS AND TUBES

8. The authority citation for 27 CFR part 46 continues to read as follows:

Authority: 18 U.S.C. 2341-2346, 26 U.S.C. 5704, 5708, 5751, 5754, 5761-5763, 6001, 6601, 6621, 6622, 7212, 7342, 7602, 7606, 7805, 44 U.S.C. 3504(h), 49 U.S.C. 782, unless otherwise noted.

§ 46.72 [Amended]

9. Amend the definition of “Sale price” in § 46.72 by removing the reference to “275.39” and adding, in its place, a reference to “41.39”.

§ 46.166 [Amended]

10. Amend § 46.166 as follows:

a. In paragraph (a), first sentence, remove the reference to “parts 270 and 275” and add, in its place, a reference to “parts 40 and 41”.

b. In paragraph (c) remove the reference to “§ 275.83” and add, in its place, a reference to “§ 41.83.”

§ 46.167 [Amended]

11. Amend § 46.167 by removing the reference to “parts 40 and 275” each place it appears, and add, in each place, a reference to “parts 40 and 41”.

§ 46.255 [Amended]

12. Amend paragraph (d) of § 46.255 by removing the reference to “part 275” and adding, in its place, a reference to “part 41”.

PART 70—PROCEDURE AND ADMINISTRATION

13. The authority citation for 27 CFR part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§ 70.431 [Amended]

14. Amend § 70.431(b)(3) by removing the reference to “Part 275” and adding, in its place, a reference to “Part 41”.

§ 70.461 [Amended]

15. Amend § 70.461 by removing the reference to “part 275” and adding, in its place, a reference to “part 41”.

PART 275—IMPORTATION OF TOBACCO PRODUCTS AND CIGARETTE PAPERS AND TUBES

16. The authority citation for 27 CFR part 275 continues to read as follows:

Authority: 18 U.S.C. 2342; 26 U.S.C. 5701, 5703, 5704, 5705, 5708, 5712, 5713, 5721, 5722, 5723, 5741, 5754, 5761, 5762, 5763, 6301, 6302, 6313, 6404, 7101, 7212, 7342, 7606, 7651, 7652, 7805; 31 U.S.C. 9301, 9303, 9304, 9306.

PART 275—[REDESIGNATED AS PART 41]

17. Transfer 27 CFR part 275 from chapter I, subchapter M, to chapter I, subchapter B, and redesignate as 27 CFR part 41.

PART 41—IMPORTATION OF TOBACCO PRODUCTS AND CIGARETTE PAPERS AND TUBES

18. Revise the authority citation for the newly redesignated 27 CFR part 41 to read as follows:

Authority: 18 U.S.C. 2342; 26 U.S.C. 5701, 5703, 5704, 5705, 5708, 5712, 5713, 5721-5723, 5741, 5754, 5761-5763, 6301, 6302, 6313, 6404, 7101, 7212, 7342, 7606, 7651, 7652, 7805; 31 U.S.C. 9301, 9303, 9304, 9306.

§ 41.11 [Amended]

19. Amend § 41.11 as follows:

a. Add, in alphabetical order, a definition of “Administrator” to read as set forth below:

b. Remove the definition of “Appropriate ATF officer” and add, in its place, the definition of “Appropriate TTB officer” to read as set forth below:

c. Remove the definitions of “Associate Director (Compliance Operations),” “ATF,” “ATF officer,” and “Chief, Puerto Rico Operations.”

d. In the definition of “Computation or computed” remove the reference to “an ATF officer” and add, in its place, a reference to “the appropriate TTB officer”.

e. Remove the definitions of “Director” and “District director.”

f. In paragraph (3)(v) of the definition of “Records” remove the reference to “ATF” each place it appears, and add, in each place, a reference to “TTB”.

g. Remove the definitions of “Region,” and “Regional Director (compliance).”

h. In the definition of “Sale price”, remove the reference to “§ 275.39” and add, in its place, a reference to “§ 41.39”.

The additions to §41.11 read as follows:

§ 41.11 Meaning of terms.

* * * * *

Administrator. The Administrator, Alcohol and Tobacco Tax and Trade Bureau, Department of the Treasury, Washington, DC.

Appropriate TTB officer. An officer or employee of the Alcohol and Tobacco Tax and Trade Bureau (TTB) authorized to perform any functions relating to the administration or enforcement of this part by TTB Order 1135.41, Delegation of the Administrator's Authorities in 27 CFR Part 41, Importation of Tobacco Products and Cigarette Papers and Tubes.

* * * * *

§ 41.21 [Amended]

20. Amend § 41.21 as follows:

a. In paragraph (a) remove the word “Director” and add, in its place, the word “Administrator”.

b. Revise paragraph (b) to read as follows:

§ 41.21 Forms prescribed.

* * * * *

(b) Forms prescribed by this part are available for printing through the TTB Web site (http://www.ttb.gov/) or by mailing a request to the Alcohol and Tobacco Tax and Trade Bureau, National Revenue Center, 550 Main Street, Room 1516, Cincinnati, OH 45202.

§§ 41.22, 41.23, 41.24, 41.25, 41.26 and 41.27 [Amended]

21. Amend the sections listed above as follows:

Amend: | By removing the reference to: | And replacing it with:
§ 41.22 | any ATF officer | any appropriate TTB officer.
§ 41.23, section heading | ATF | TTB.
§ 41.23 | any ATF officer | any appropriate TTB officer.
§ 41.23 (two times) | any ATF officer | any appropriate TTB officer.
§ 41.24 | any ATF officer | any appropriate TTB officer.
§ 41.25 | ATF | TTB.
§ 41.26, introductory text (two times) | Director | appropriate TTB officer.
§ 41.26, concluding text | to the regional director (compliance) for transmittal to the Director | to the appropriate TTB officer.
§ 41.26, concluding text (three times) | Director | appropriate TTB officer.
§ 41.27, introductory text | Director | appropriate TTB officer.
§ 41.27, concluding text | judgment of the Director | judgment of the appropriate TTB Officer.
§ 41.27, concluding text | to the regional director (compliance) for transmittal to the Director | to the appropriate TTB officer.
§ 41.27, concluding text | the Director under this section | the appropriate TTB officer under this section.

§ 41.29 [Amended]

22. Revise § 41.29 to read as follows:

§ 41.29 Delegations of the Administrator.

The regulatory authorities of the Administrator contained in this part are delegated to appropriate TTB officers. These TTB officers are specified in TTB Order 1135.41, Delegation of the Administrator's Authorities in 27 CFR Part 41, Importation of Tobacco Products and Cigarette Papers and Tubes. You may obtain a copy of this order by accessing the TTB Web site (http://www.ttb.gov/) or by mailing a request to the Alcohol and Tobacco Tax and Trade Bureau, National Revenue Center, 550 Main Street, Room 1516, Cincinnati, OH 45202.

§§ 41.31, 41.40, 41.63, 41.71, 41.72c, 41.73, 41.74, 41.75, 41.81, 41.82, 41.83, 41.85, 41.85a, 41.86, 41.101, 41.105, 41.106, 41.109, 41.110, 41.111, 41.112, 41.113, 41.114, 41.114a, 41.115, 41.115a, 41.116, 41.121, 41.122, 41.123, 41.124, 41.125, 41.126, 41.127, 41.128, 41.129, 41.161, 41.163, 41.165, 41.170, 41.171, 41.172, 41.173, 41.174, 41.181, 41.182, 41.190, 41.191, 41.192, 41.193, 41.194, 41.195, 41.196, 41.197, 41.198, 41.199, 41.200, 41.201, 41.202, 41.203, 41.206, 41.207, 41.208, 41.220, 41.221, 41.222, 41.223, 41.224, 41.225, 41.226, 41.227, and 41.228 [Amended]

23. Amend the sections listed above as follows:

Amend | By removing the reference to: | And replacing it with:
§ 41.31(b) | § 275.39 | § 41.39
§ 41.40 | § 275.11 | § 41.11
§ 41.63(c) | § 275.11 | § 41.11
§ 41.71 | § 275.75 | § 41.75
§ 41.72c(b) | § 275.72b(b) | § 41.72b(b)
§ 41.72c(c) | § 275.72b(a) | § 41.72b(a)
§ 41.73, introductory text | § 275.75 | § 41.75
§ 41.74 | § 275.75 | § 41.75
§ 41.75 | § 275.50 | § 41.50
§ 41.81(a) | section 275.82 | § 41.82
§ 41.81(b) | §§ 275.85 and 275.85a | §§ 41.85 and 41.85a
§ 41.81(c)(4)(iv) | § 275.31 | § 41.31
§ 41.81(d)(1) | §§ 275.85, 275.85a, or 275.135 | §§ 41.85, 41.85a, or 41.135
§ 41.81(d)(3) | § 275.151 | § 41.151
§ 41.82 (i) | § 275.83 | § 41.83
§ 41.82(j) | § 275.83 | § 41.83
§ 41.83, introductory text | § 275.82(b) and (c) | § 41.82(b) and (c)
§ 41.85(a) | § 275.86 | § 41.86
§ 41.85(a) (two times) | ATF | TTB
§ 41.85a(c) | § 275.86 | § 41.86
§ 41.86(a) | §§ 275.85 or 275.85a | §§ 41.85 or 41.85a
§ 41.86(a) (two times) | ATF | TTB
§ 41.86(b) (six times) | ATF | TTB
§ 41.86(c) (three times) | ATF | TTB
§ 41.86(d) (four times) | ATF | TTB
§ 41.101(c) | § 275.105 | § 41.105
§ 41.105 | ATF | TTB
§ 41.106(a)(3) | 275.30 through 275.35 | §§ 41.30 through 41.35
§ 41.106(a)(11) | ATF | TTB
§ 41.106(b) (two times) | ATF | TTB
§ 41.109 | regional director (compliance) | appropriate TTB officer
§ 41.109 | § 275.112 | § 41.112
§ 41.110(c) | 275.30 through 275.35 | §§ 41.30 through 41.35
§ 41.111(b) | ATF | TTB
§ 41.112 (two times) | ATF | TTB
§ 41.112 | Chief, Puerto Rico Operations | appropriate TTB officer
§ 41.112 | § 275.114 | § 41.114
§ 41.112 | Regional Director (compliance), Bureau of Alcohol, Tobacco and Firearms, Atlanta, GA | appropriate TTB officer
§ 41.113 | § 275.114 | § 41.114
§ 41.114(a) | § 275.115 | § 41.115
§ 41.114(a) | § 275.115a | § 41.115a
§ 41.114(b)(2) | § 275.115a | § 41.115a
§ 41.114(c) | office of the Chief, Puerto Rico Operations | appropriate TTB officer
§ 41.114a(a) | § 275.114 | § 41.114
§ 41.114a(a) | regional director (compliance) | appropriate TTB officer
§ 41.114a(a) | 27 CFR 275.114 | 27 CFR 41.114
§ 41.114a(a) | § 275.121 | § 41.121
§ 41.114a(b) | § 275.114 | § 41.114
§ 41.114a(b) | § 275.116 | § 41.116
§ 41.114a(b) | § 275.121 | § 41.121
§ 41.114a(c) | regional director (compliance) | appropriate TTB officer
§ 41.115 | § 275.115a | § 41.115a
§ 41.115 | Chief, Puerto Rico Operations | appropriate TTB officer
§ 41.115a(a)(1) | § 275.115 | § 41.115
§ 41.115a(b)(1) | the regional director (compliance), for each region in which taxes are paid | the appropriate TTB officer
§ 41.115a(b)(2) | § 275.105 | § 41.105
§ 41.115a(b)(2) | § 275.114 | § 41.114
§ 41.115a(b)(3) | § 275.115 | § 41.115
§ 41.115a(b)(3) | regional director (compliance) | appropriate TTB officer
§ 41.115a(c)(1) | Chief, Puerto Rico Operations | appropriate TTB officer
§ 41.115a(e) (two times) | ATF | TTB
§ 41.116 | regional director (compliance) | appropriate TTB officer
§ 41.121(b) | § 275.111 | § 41.111
§ 41.121(b) | ATF-prescribed document | TTB-prescribed document
§ 41.122 | § 275.121 | § 41.121
§ 41.122 | § 275.123 | § 41.123
§ 41.123 (two times) | regional director (compliance) | appropriate TTB officer
§ 41.123 | § 275.121 | § 41.121
§ 41.124 | § 275.114a | § 41.114a
§ 41.125 (three times) | regional director (compliance) | appropriate TTB officer
§ 41.125 | § 275.136 | § 41.136
§ 41.125 | any ATF officer | the appropriate TTB officer
§ 41.126 (four times) | regional director (compliance) | appropriate TTB officer
§ 41.126 | § 275.127 | § 41.127
§ 41.127 (three times) | regional director (compliance) | appropriate TTB officer
§ 41.127 | § 275.128 | § 41.128
§ 41.128 | § 275.127 | § 41.127
§ 41.129 | § 275.120 | § 41.120
§ 41.129 (three times) | regional director (compliance) | appropriate TTB officer
§ 41.161 | satisfaction of the regional director (compliance) | satisfaction of the appropriate TTB officer
§ 41.161 | filed with the regional director (compliance) for the region in which the tax or liability was assessed | filed with the appropriate TTB officer
§ 41.163 | satisfactory to the regional director (compliance) | satisfactory to the appropriate TTB officer
§ 41.163 | § 275.165 | § 41.165
§ 41.163 | §§ 275.170 and 275.171 or §§ 275.172 and 275.173 | §§ 41.170 and 41.171 or §§ 41.172 and 41.173
§ 41.163 | regional director (compliance) for the region in which the tax was paid, or, where the tax was paid in more than one region, with the regional director (compliance) for any one of the regions in which the tax was paid | appropriate TTB officer
§ 41.165 | § 275.163 | § 41.163
§ 41.165 | regional director (compliance) | appropriate TTB officer
§ 41.170, section heading | ATF | TTB
§ 41.170(a) | § 275.163 | § 41.163
§ 41.170(a) | ATF | TTB
§ 41.170(a) | regional director (compliance) for the region in which the tobacco products and cigarette papers and tubes are assembled | appropriate TTB officer
§ 41.170(b) | § 275.22 | § 41.22
§ 41.170(b) (two times) | ATF | TTB
§ 41.171, section heading | regional director (compliance) | appropriate TTB officer
§ 41.171 | regional director (compliance) may assign an ATF officer to | appropriate TTB officer may
§ 41.171 | regional director (compliance) may authorize | appropriate TTB officer may authorize
§ 41.172(a) | § 275.163 | § 41.163
§ 41.172(a) | regional director (compliance) for the region in which the tobacco products and cigarette papers and tubes are assembled | appropriate TTB officer
§ 41.172(b) | § 275.22 | § 41.22
§ 41.172(b) (two times) | ATF | TTB
§ 41.173, section heading | regional director (compliance) | appropriate TTB officer
§ 41.173 | regional director (compliance) may assign an ATF officer to | appropriate TTB to officer may
§ 41.173 | regional director (compliance) may authorize | appropriate TTB officer may authorize
§ 41.174 | an ATF officer | the appropriate TTB officer
§ 41.174 | The ATF officer | The appropriate TTB officer
§ 41.181(a) | § 275.39 | § 41.39
§ 41.181(c) | § 275.81 | § 41.81
§ 41.181(d) | ATF | TTB
§ 41.182 | § 275.181 | § 41.181
§ 41.182 | regional director (compliance) | appropriate TTB officer
§ 41.182 | any ATF officer | the appropriate TTB officer
§ 41.182 | § 275.22 | § 41.22
§ 41.190 | § 275.50 | § 41.50
§ 41.191 | § 275.192 | § 41.192
§ 41.191 | § 275.11 | § 41.11
§ 41.191 | ATF | TTB
§ 41.192(b) (two times) | ATF | TTB
§ 41.193 | § 275.191 | § 41.191
§ 41.193 | ATF | TTB
§ 41.194 | § 275.191 | § 41.191
§ 41.194 | ATF | TTB
§ 41.195 | § 275.191 | § 41.191
§ 41.196 (three times) | ATF | TTB
§ 41.196 | § 275.194 | § 41.194
§ 41.197 (three times) | ATF | TTB
§ 41.198 | ATF | TTB
§ 41.199 (three times) | ATF | TTB
§ 41.200 (two times) | ATF | TTB
§ 41.201(a) | ATF | TTB
§ 41.201(b) | § 275.192 | § 41.192
§ 41.202 (two times) | ATF | TTB
§ 41.203 | ATF | TTB
§ 41.206(a) | ATF | TTB
§ 41.206(d) | § 275.224 | § 41.224
§ 41.206(d) | § 275.226 | § 41.226
§ 41.207 (two times) | ATF | TTB
§ 41.208(a) (two times) | ATF | TTB
§ 41.208(b) | ATF | TTB
§ 41.220 | ATF | TTB
§ 41.221 | ATF | TTB
§ 41.221 | § 275.195 | § 41.195
§ 41.222 | ATF | TTB
§ 41.223 | ATF | TTB
§ 41.224 | ATF | TTB
§ 41.224 | § 275.205 | § 41.205
§ 41.224 | § 275.206 | § 41.206
§ 41.225 (two times) | ATF | TTB
§ 41.225 | § 275.226 | § 41.226
§ 41.225 | § 275.196 | § 41.196
§ 41.226 | ATF | TTB
§ 41.226 | § 275.206 | § 41.206
§ 41.227 | ATF | TTB
§ 41.228 | ATF | TTB

Signed: July 6, 2004.
Arthur J. Libertucci,
Administrator.

Approved: August 2, 2004.
Timothy E. Skud,
Deputy Assistant Secretary (Tax, Trade, and Tariff Policy).

[FR Doc. 04-19418 Filed 8-25-04; 8:45 am]

BILLING CODE 4810-31-P